DEPARTMENT OF THE INTERIOR

Bureau of Land Management

[MT-925-2810-XU-241E]

Notice of Special Fire Restrictions—Restrictions and Conditions of Use in the Miles City, Malta, Billings and Lewistown Field Offices, Montana

AGENCY: Bureau of Land Management, Interior.

ACTION: Notice.

SUMMARY: Pursuant to 43 Code of Federal Regulations (CFR) 9212.2, the following acts are prohibited on all Bureau of Land Management lands in Liberty, Hill, Blaine, Phillips, Valley, Daniels, Sheridan, Roosevelt, Choteau, Judith Basin, Fergus, Petroleum, Garfield, McCone, Richland, Dawson, Prairie, Wibaux, Wheatland, Golden Valley, Musselshell, Yellowstone, Big Horn, Treasure, Rosebud, Custer, Powder River, Fallon, and Carter counties. These restrictions will become effective at 12:01 MDT September 12, 2000. They will remain in effect until rescinded or revoked. They replace the restrictions enacted on August 31, 2000, which are hereby terminated.

Building, maintaining, attending, or using a campfire except at a developed, designated recreation site or campground (43 CFR 9212.1(h)). Gas and liquid-fueled stoves and lanterns are permitted.

Smoking, except within an enclosed vehicle or building; at an improved place of habitation; at a developed, designated recreation site or campground; or while stopped in an area at least 3 feet in diameter that is cleared of all flammable material (43 CFR 9212.1(h)).

Use of chainsaws or other equipment with internal combustion engines for felling, bucking, skidding, wood cutting, road building, and other high fire risk operations between 1 p.m. and 1 a.m. local time. Exceptions are helicopter yarding and earth moving on areas of cleared and bare soil. Sawing incidental to loading operations on cleared landings is not necessarily restricted (43 CFR 9212.1(h)).

Using chainsaws or other equipment with internal combustion engines for felling, bucking, skidding, wood cutting or any other operation within areas having a significant accumulation of dead or down slash or timber (43 CFR 9212.1(h)).

Welding, blasting (except seismic operations confined by ten or more feet of soil, sand or cuttings), and other activities with a high potential for causing forest fires (43 CFR 9212.1(h)).

A patrol is required for a period of two hours after any woods operations including felling, bucking, skidding, woodcutting, or road building cease. A patrol is also required for one hour following the cessation of all work activity. The patrolperson's responsibilities include checking for compliance with required fire precautions.

Possessing or using motorized vehicles such as, but not limited to cars, trucks, trail bikes, motorcycles and all terrain vehicles off existing roads and trails (43 CFR 9212.1(h)) except for persons with a grazing, oil and gas or mining permit performing activities in accordance with their permit.

Exemptions to the above prohibitions are allowed only for any Federal, State, or local officer, or member of an organized law enforcement, rescue, or firefighting force in the performance of an official duty, or persons with a permit or written authorization allowing the otherwise prohibited act or omission.

Violation of this order is prohibited by the provisions of the regulations cited. Under 43 CFR 9212.4, any violation is subject to punishment by a fine of not more than $1,000 or imprisonment of not more than 12 months, or both.

DATES: Restrictions go into effect at 12:01 am on Tuesday, September 12, 2000, and will remain in effect until further notice.

ADDRESSES: Comments should be sent to BLM Montana State Director, Attention: Pat Mullaney, P.O. Box 36800, Billings, Montana 59107-6800.

FOR FURTHER INFORMATION CONTACT: Pat Mullaney, Fire Management Specialist, 406-896-2915.

Dated: September 12, 2000.
Roberta A. Moltzen,
Acting State Director.

[FR Doc. 00-23851 Filed 9-14-00; 8:45 am]

BILLING CODE 4310-$$-P